DEPARTMENT OF EDUCATION

[CFDA No.: 84.132A]

Centers for Independent Living—Training and Technical Assistance Center; Notice Inviting Applications for New Awards for Fiscal Year (FY) 2002

Purpose of Program: To provide training and technical assistance with respect to planning, developing, conducting, administering, and evaluating centers for independent living to the following eligible entities authorized under title VII of the Rehabilitation Act of 1973, as amended (Act): eligible agencies, centers for independent living (CIL), and Statewide Independent Living Councils (SILCs). The purpose of independent living (IL) services is to maximize independence, productivity, empowerment, and leadership of individuals with disabilities and integrate these individuals into the mainstream of society. A CIL is defined in section 702(1) of the Act as a consumer-controlled, community-based, cross-disability, nonresidential private nonprofit agency that is designed and operated within a local community by individuals with disabilities and that provides an array of IL services.

Eligible Applicants: To be eligible to apply for funds under this program, an entity must demonstrate in its application that it has experience in the operation of centers for independent living.

Applications Available: June 17, 2002.

Deadline for Transmittal of Applications: August 1, 2002.

Deadline for Intergovernmental Review: September 30, 2002.

Estimated Available Funds: $1,237,500.

Estimated Range of Awards: $618,750—$1,237,500.

Estimated Average Size of Awards: $618,750.

Estimated Number of Awards: 1-2.

Note: The Department is not bound by any estimates in this notice.

Project Period: Up to 60 months.

Applicable Regulations: (a) The Education Department General Administrative Regulations (EDGAR) in 34 CFR parts 74, 75, 77, 79, 80, 81, 82, 85, and 86. (b) The regulations for this program in 34 CFR part 366.

Selection Criteria: In evaluating an application for a new grant under this competition, we use the selection criteria in 34 CFR 366.15. The selection criteria to be used for this competition will be provided in the application package for this competition.

Supplementary Information: The Secretary has determined that this grant requires substantial Federal involvement during the grant award period. Therefore, the award will be made as a cooperative agreement.

With the New Freedom Initiative, the Administration has committed to support community-based services in order to promote maximum independence and integration of individuals with disabilities in community life. One component of this initiative is the President's commitment to swiftly implement the Supreme Court's decision in Olmstead v. L.C., which found that the Americans with Disabilities Act requires the placement of persons with disabilities in a community-integrated setting whenever possible.

The Department is promoting community-based services for persons with disabilities through its Olmstead project in an effort to help States plan, implement, and evaluate consumer-directed and community-based services. The Rehabilitation Continuing Education Program (RCEP) received funding to develop and implement training programs for State vocational rehabilitation agencies, rehabilitation professionals, and community organizations on issues related to community-based services. In the following invitational priorities, we encourage applicants for this program to build on the work of the Olmstead project and the RCEP.

Priorities

Invitational Priorities

We are particularly interested in applications that meet one or all of the following priorities.

Invitational Priority 1

Applications should demonstrate how the project would encourage community-based alternatives to institutionalization. Applications should address how the project will help CILs meet the housing, transportation, assistive technology, and independent living skills training needs of individuals with disabilities moving from an institutional setting to community-based living.

Invitational Priority 2

Applications should demonstrate how the project would improve the provision of effective independent living peer mentoring programs.

Invitational Priority 3

Applications should demonstrate how the project would assist CILs to increase consumer participation in systems change advocacy.

Invitational Priority 4

Applications should provide an annual and comprehensive analysis of centers' operations, consumer services, process measures, access measures, and services and training needs as measured by the annual 704 performance reports, on-site compliance reports, and standards and indicators.

Invitational Priority 5

Applications should demonstrate how the project would help CILs provide outreach and services to consumers from diverse multicultural communities and from underserved disability communities, including those with sensory and psychiatric disabilities.

Under 34 CFR 75.105(c)(1) we do not give an application that meets one or more of the invitational priorities a competitive or absolute preference over other applications.

Competitive Preference Priority

We give preference to applications that meet the competitive preference priority in the notice of final competitive preference for this program, published in the Federal Register on November 22, 2000 (65 FR 70408). Under 34 CFR 75.105(c)(2)(i), up to 10 points may be earned based on the extent to which an application includes effective strategies for employing and advancing in employment qualified individuals with disabilities as project employees in projects awarded in this competition. In determining the effectiveness of those strategies, we will consider the applicant's prior success, as described in the application, in employing and advancing in employment qualified individuals with disabilities. Therefore, within this competitive preference, applicants can be awarded up to a total of 10 points in addition to those awarded under the selection criteria in 34 CFR 366.15, for a total possible score of 110 points.

For Applications Contact: Education Publications Center (ED Pubs), P.O. Box 1398, Jessup, MD 20794-1398. Telephone (toll free): 1-877-433-7827. FAX (301) 470-1244. If you use a telecommunications device for the deaf (TDD), you may call (toll free): 1-877-576-7734.

You may also contact ED Pubs at its Web site: http://www.ed.gov/pubs/edpubs.html, or you may contact ED Pubs at its e-mail address: edpubs@inet.ed.gov.

If you request an application from ED Pubs, be sure to identify this competition as follows: CFDA number 84.132A.

Individuals with disabilities may obtain a copy of the application package in an alternative format by contacting the Grants and Contracts Services Team (GCST), U.S. Department of Education, 400 Maryland Avenue, SW., room 3317, Switzer Building, Washington, DC 20202-2550. Telephone: (202) 205-8207. If you use a telecommunications device for the deaf (TDD), you may call the Federal Information Relay Service (FIRS) at 1-800-877-8339. The preferred method for requesting applications is to FAX your request to (202) 205-8717.

However, the Department is not able to reproduce in an alternative format the standard forms included in the application package.

For Further Information Contact: James Billy, U.S. Department of Education, 400 Maryland Avenue, SW., room 3326, Switzer Building, Washington, DC 20202-2741. Telephone: (202) 205-9362. If you use a telecommunications device for the deaf (TDD), you may call the Federal Information Relay Service (FIRS) at 1-800-877-8339.

Individuals with disabilities may obtain this document in an alternative format (e.g., Braille, large print, audiotape, or computer diskette) on request to the program contact person listed in the preceding paragraph.

Electronic Access to This Document

You may view this document, as well as all other Department of Education documents published in the Federal Register, in text or Adobe Portable Document Format (PDF) on the Internet at the following site: www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 29 U.S.C. 796f.

Dated: June 7, 2002.
Robert H. Pasternack,
Assistant Secretary for Special Education and Rehabilitative Services.

[FR Doc. 02-14866 Filed 6-12-02; 8:45 am]

BILLING CODE 4000-01-P